DEPARTMENT OF COMMERCE

Bureau of Industry and Security

[Docket No. 250924-0160]

XRIN 0694-XC134

Notice of Request for Public Comments on Section 232 National Security Investigation of Imports of Personal Protective Equipment, Medical Consumables, and Medical Equipment, Including Devices

AGENCY: Bureau of Industry and Security, Office of Strategic Industries and Economic Security, U.S. Department of Commerce.

ACTION: Notice of request for public comments.

SUMMARY: On September 2, 2025, the Secretary of Commerce initiated an investigation to determine the effects on the national security of imports of personal protective equipment (PPE), medical consumables, and medical equipment including devices. This investigation has been initiated under section 232 of the Trade Expansion Act of 1962, as amended (Section 232). Interested parties are invited to submit written comments, data, analyses, or other information pertinent to the investigation to the Department of Commerce's (Department) Bureau of Industry and Security (BIS), Office of Strategic Industries and Economic Security. This notice identifies issues on which the Department is especially interested in obtaining the public's views.

DATES: Comments may be submitted at any time but must be received by October 17, 2025.

ADDRESSES: Comments on this notice may be submitted to the Federal rulemaking portal at: www.regulations.gov. The regulations.gov ID for this notice is BIS-2025-0258. Please refer to XRIN 0694-XC134 in all comments.

All filers using the portal should use the name of the person or entity submitting the comments as the name of their files, in accordance with the instructions below. Anyone submitting business confidential information should clearly identify the business confidential portion at the time of submission, file a statement justifying nondisclosure and referring to the specific legal authority claimed, and provide a non-confidential version of the submission.

For comments submitted electronically containing business confidential information, the file name of the business confidential version should begin with the characters “BC.” Any page containing business confidential information must be clearly marked “BUSINESS CONFIDENTIAL” on the top of that page. The required corresponding non-confidential version of those comments must be clearly marked “PUBLIC.” The file name of the non-confidential version should begin with the character “P.” Any submissions with file names that do not begin with either a “BC” or a “P” will be assumed to be public and will be made publicly available at: https://www.regulations.gov. Commenters submitting business confidential information are encouraged to scan a hard copy of the non-confidential version to create an image of the file, rather than submitting a digital copy with redactions applied, to avoid inadvertent redaction errors which could enable the public to read business confidential information.

FOR FURTHER INFORMATION CONTACT: Stephen Astle, Director, Defense Industrial Base Division, Office of Strategic Industries and Economic Security, Bureau of Industry and Security, U.S. Department of Commerce, (202) 482-4506, medicalequipment232@bis.doc.gov. For more information about the Section 232 program, including the regulations and the text of previous investigations, see www.bis.doc.gov/232.

SUPPLEMENTARY INFORMATION:

Background

On September 2, 2025, the Secretary of Commerce initiated an investigation under Section 232 (19 U.S.C. 1862) to determine the effects on national security of imports of personal protective equipment (PPE), medical consumables, and medical equipment, including devices.

Request for Public Comments

This investigation is being undertaken in accordance with part 705 of the National Security Industrial Base Regulations (15 CFR parts 700 to 709) (NSIBR). Interested parties are invited to submit written comments, data, analyses, or information pertinent to this investigation to BIS's Office of Strategic Industries and Economic Security no later than October 17, 2025. For purposes of this investigation:

Personal protective equipment (PPE) refers to PPE used in health care settings. PPE includes, but is not limited to, surgical masks, N95 respirators, gloves, gowns, and related medical parts and components.

Medical consumables refers to single-use or short-term-use items used for patient diagnosis, treatment, and prevention of conditions. Medical consumables include but are not limited to: medical/surgical instruments (e.g., syringes, needles, infusion (IV) pumps, forceps, scalpels); medical/surgical supplies (e.g., intravenous (IV) bags, catheters, tracheostomy tubes, anesthesia equipment, gauze/bandages, sutures, diagnostic and laboratory reagents); and related medical parts and components. Pharmaceuticals, such as prescription drugs, over-the-counter drugs, biologics, and specialty drugs, will not be covered under this investigation as those imports are being examined in a separate Section 232 investigation.

Medical equipment refers broadly as durable equipment, tools, and machines used in healthcare to support patient care. Examples include but are not limited to: carriages and wheelchairs; crutches; and hospital beds.

A medical device is any instrument, apparatus, or machine used in the diagnosis, monitoring, or treatment of medical conditions. Examples include but are not limited to: pacemakers; insulin pumps; coronary stents; heart valves; hearing aids; robotic and non-robotic prosthetics; blood glucose monitors; orthopedic appliances; electromedical apparatus (e.g., computed tomography scanners, magnetic resonance imaging machines); electrosurgical apparatus; x-ray apparatus/other radiation equipment; respiratory machines (e.g., ventilators, respirators, oxygen apparatus); and MRI machines.

The Department is particularly interested in comments and information directed at the criteria listed in § 705.4 of the regulations as they affect national security, including the following:

(i) The current and projected demand for PPE, medical consumables, and medical equipment, including devices, in the United States;

(ii) the extent to which domestic production of PPE, medical consumables, and medical equipment, including devices, can meet domestic demand;

(iii) the role of foreign supply chains, particularly of major exporters, in meeting United States demand for PPE, medical consumables, and medical equipment, including devices;

(iv) the concentration of U.S. imports of PPE, medical consumables, and medical equipment, including devices, from a small number of suppliers or foreign nations and the associated risks;

(v) the impact of foreign government subsidies and predatory trade practices on the competitiveness of PPE, medical consumables, and medical equipment, including devices, manufacturers, in the United States;

(vi) the economic impact of artificially suppressed prices of PPE, medical consumables, and medical equipment, including devices, due to foreign unfair trade practices and state-sponsored overproduction;

(vii) the potential for export restrictions by foreign nations, including the ability of foreign nations to weaponize their control over supplies of PPE, medical consumables, and medical equipment (including devices);

(viii) the feasibility of increasing domestic capacity for PPE, medical consumables, and medical equipment, including devices, to reduce import reliance;

(ix) the impact of current trade policies on domestic production of PPE, medical consumables, and medical equipment, including devices, and whether additional measures, including tariffs or quotas, are necessary to protect national security;

(x) the potential for foreign control or exploitation of supply chains for PPE, medical consumables, and medical equipment, including devices, supply chain;

(xi) the ability of foreign persons to weaponize the capabilities or attributes of foreign-built PPE, medical consumables, and medical equipment, including devices; and

(xii) any other relevant factors.

Material submitted by members of the public that is business confidential information will be exempted from public disclosure as provided for by § 705.6 of the regulations (see the ADDRESSES section of this notice). Communications from agencies of the United States Government will not be made available for public inspection. BIS does not maintain a separate public inspection facility. Requesters should first view the Bureau's web page, which can be found at: https://efoia.bis.doc.gov/ (see “Electronic FOIA” heading). If requesters cannot access the website, they may call (202) 482-0795 for assistance. The records related to this assessment are made accessible in accordance with the regulations published at 15 CFR 4.1, et seq.

Julia A. Khersonsky,
Deputy Assistant Secretary for Strategic Trade.

[FR Doc. 2025-18729 Filed 9-24-25; 4:15 pm]

BILLING CODE 3510-33-P